DEPARTMENT OF HOMELAND SECURITY

[Docket No. DHS-2017-0011]

Agency Information Collection Activities: Proposed Collection; Comment Request; Department of Homeland Security National Protection and Programs Directorate Visitor Request Form

AGENCY: Office of Compliance and Security, National Protection and Programs Directorate, DHS.

ACTION: 60-Day notice and request for comments; New Collection, 1670—NEW.

SUMMARY: The Department of Homeland Security (DHS), National Protection and Programs Directorate (NPPD), Office of Compliance and Security, will submit the following Information Collection Request to the Office of Management and Budget (OMB) for review and clearance in accordance with the Paperwork Reduction Act of 1995.

DATES: Comments are encouraged and will be accepted until July 17, 2017. This process is conducted in accordance with 5 CFR 1320.1.

ADDRESSES: You may submit comments, identified by docket number DHS-2017-0011, by one of the following methods:

• Federal eRulemaking Portal: http://www.regulations.gov. Please follow the instructions for submitting comments.

• Email: nppd-prac@HQ.DHS.GOV. Please include docket number DHS-2017-0011 in the subject line of the message.

• Mail: Written comments and questions about this Information Collection Request should be forwarded to DHS/NPPD/OCISO, ATTN: 1670—NEW, 245 Murray Lane SW., Mail Stop 0380, Arlington, VA 20598-0640.

Instructions: All submissions received must include the words “Department of Homeland Security” and the docket number for this action. Comments received will be posted without alteration at http://www.regulations.gov, including any personal information provided.

Comments submitted in response to this notice may be made available to the public through relevant Web sites. For this reason, please do not include in your comments information of a confidential nature, such as sensitive personal information or proprietary information. If you send an email comment, your email address will be automatically captured and included as part of the comment that is placed in the public docket and made available on the Internet. Please note that responses to this public comment request containing any routine notice about the confidentiality of the communication will be treated as public comments that may be made available to the public notwithstanding the inclusion of the routine notice.

SUPPLEMENTARY INFORMATION: Public Law 107-296, The Homeland Security Act of 2002, Title II, recognizes DHS's role in integrating relevant critical infrastructure and cybersecurity information, analyses, and vulnerability assessments (whether such information, analyses, or assessments are provided or produced by the Department or others) in order to identify priorities for protective and support measures by the Department, other agencies of the Federal Government, State and local government agencies and authorities, the private sector, and other entities while maintaining positive control of sensitive information regarding the national infrastructure. In support of this mission the NPPD Office of Compliance and Security must maintain a robust visitor screening capability.

The NPPD Office of Compliance and Security will collect, using an electronic form, information about each potential visitor to NPPD facilities and the nature of each visit. The Office of Compliance and Security will use collected information to make a risk-based decision to allow visitor access to NPPD facilities.

This is a new information collection. The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis: Agency: Office of Compliance and Security, NPPD, DHS.

Title: Agency Information Collection Activities: NPPD Visitor Request Form.

OMB Number: 1670—NEW.

Frequency: Annually.

Affected Public: Private and Public Sector.

Number of Respondents: 20,000.

Estimated Time per Respondent: 10 minutes.

Total Burden Hours: 3,333 hours.

Dated: May 3, 2017.
Ryan Comber,
Acting Chief Information Officer.

[FR Doc. 2017-09989 Filed 5-16-17; 8:45 am]

BILLING CODE 9110-9P-P